DEPARTMENT OF AGRICULTURE

Rural Utilities Service

[Docket No. RUS-24-WATER-0008]

60-Day Notice of Proposed Information Collection: RUS-Technical Assistance and Construction for Innovative Regional Wastewater Treatment Solutions (TAC-RWTS) Pilot Grant Program; OMB Control No.: 0572-0157

AGENCY: Rural Utilities Service, USDA.

ACTION: Notice; request for comments.

SUMMARY: In accordance with the Paperwork Reduction Act of 1995, the United States Department of Agriculture (USDA) Rural Utilities Service (RUS or Agency) announces its intention to request a revision of a currently approved information collection and invites comments on this information collection.

DATES: Comments on this notice must be received by June 14, 2024 to be assured of consideration.

ADDRESSES: Comments may be submitted electronically by the Federal eRulemaking Portal, http://www.regulations.gov. In the “Search for dockets and documents on agency actions” box, enter the docket number “RUS-24-WATER-0008,” and click the “Search” button. From the search results: click on or locate the document title: “60-Day Notice of Proposed Information Collection: “RUS-Technical Assistance and Construction for Innovative Regional Wastewater Treatment Solutions (TAC-RWTS) Pilot Grant Program” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.”

Information on using Regulations.gov, including instructions for accessing documents, submitting comments, and viewing the docket after the close of the comment period, is available through the site's “FAQ” link.

All comments will be available for public inspection online at the Federal eRulemaking Portal (https://www.regulations.gov).

FOR FURTHER INFORMATION CONTACT: Lisa Day, Rural Development Innovation Center—Regulations Management Division, USDA, 1400 Independence Avenue SW, Room 4227, South Building, Washington, DC 20250-1522. Telephone: (971) 313-4750. Email Lisa.Day@USDA.GOV.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that RUS is submitting to OMB as an extension to an existing collection with Agency adjustment.

Title: RUS-Technical Assistance and Construction for Innovative Regional Wastewater Treatment Solutions (TAC-RWTS) Pilot Grant Program.

OMB Control Number: 0572-0157.

Expiration Date of Approval: August 31, 2024.

Type of Request: Revision of a currently approved collection.

Estimate of Burden: This collection of information is estimated to average 4.4 hour per response.

Respondents: Not-for-profit institutions; Business or other for profit.

Estimated Number of Respondents: 9.

Estimated Number of Responses per Respondent: 10.77.

Estimated Total Number of Responses: 97.

Estimated Annual Reporting Burden on Respondents: 423 hours.

Estimated Annual Recordkeeping Burden on Respondents: 0 hours.

Estimated Total Annual Burden on Respondents: 423 hours.

Abstract: The TAC-RWTS Grant Pilot Program was authorized by the Further Consolidated Appropriations Act, 2020, for the study and design of innovative treatment solutions of regional wastewater systems for historically impoverished communities that have had difficulty installing traditional wastewater treatment systems due to soil conditions. Qualified regional consortiums will receive TAC-RWTS grant funds to identify and evaluate economically feasible, innovative regional solutions to wastewater treatment concerns for historically impoverished communities in areas which have had difficulty installing traditional wastewater treatment systems due to soil conditions. Grants are for wastewater-related technical assistance, including such services as feasibility studies, preliminary design assistance and supervision, oversight, or training for the development of an application for financial assistance.

Grantees will be expected to provide the Agency with a detailed report to include the area to be served, the issues with the present method of wastewater discharge, the alternatives and innovative solutions to the wastewater issue, the long-term cost and effect of the solution, the affordability including possible funding sources, potential treatment, staff training needs, and lifecycle cost analysis.

Comments are invited on:

(a) whether the proposed collection of information is necessary for the proper performance of the functions of the Agency, including whether the information will have practical utility.

(b) the accuracy of the Agency's estimate of the burden of the proposed collection of information including the validity of the methodology and assumptions used.

(c) ways to enhance the quality, utility, and clarity of the information to be collected; and (d) ways to minimize the burden of the collection of information on respondents, including through the use of appropriate automated, electronic, mechanical, or other technological collection techniques or other forms of information technology. All responses to this notice will be summarized and included in the request for OMB approval. All comments will become a matter of public record.

Copies of this information collection can be obtained from Lisa Day, Innovation Center—Regulations Management Division, at (971) 313.4750. Email: Lisa.Day@USDA.GOV.

All responses to this notice will be summarized and included in the request for OMB approval. All comments will also become a matter of public record.

Laurel Leverrier,
Acting Administrator, Rural Utilities Service.

[FR Doc. 2024-07922 Filed 4-12-24; 8:45 am]

BILLING CODE 3410-15-P